FEDERAL COMMUNICATIONS COMMISSION

47 CFR Parts 22 and 24

[WT Docket No. 01-108; DA 04-2590]

Year 2000 Biennial Regulatory Review—Amendment of Part 22 of the Commission's Rules To Modify or Eliminate Outdated Rules Affecting the Cellular Radiotelephone Service and Other Commercial Mobile Radio Services

AGENCY: Federal Communications Commission.

ACTION: Final rule; correction.

SUMMARY: The Federal Communications Commission published in the Federal Register of April 1, 2004, a document relating to the resolution of Petitions for Reconsideration filed in the Commission's part 22 Cellular Biennial Regulatory Review proceeding in WT Docket No. 01-108, which incorrectly indicated that a new or modified information collection exists that requires approval by the Office of Management and Budget (“OMB”), and contained an incorrect DATES section. The effective date for the document (69 FR 17063) is corrected to read: DATES: Effective June 1, 2004. This document corrects the DATES section of the April 1, 2004 document.

DATES: Effective June 1, 2004.

FOR FURTHER INFORMATION CONTACT: Linda C. Chang, Federal Communications Commission, Wireless Telecommunications Bureau, 445 12th St., Washington, DC 20554, (202) 418-0620.

SUPPLEMENTARY INFORMATION: The FCC published a document in the Federal Register of April 1, 2004, (69 FR 17063) relating to the resolution of petitions for reconsiderations filed in the Commission's Part 22 Cellular Biennial Regulatory Review proceeding. In FR Doc. 04-6822, published in the Federal Register of April 1, 2004, the document incorrectly indicated that a new or modified information collection exists that requires approval by the Office of Management and Budget (“OMB”), and contained an incorrect DATES: section. This document corrects the DATES section to read: DATES: Effective June 1, 2004.

Dated: September 9, 2004.
Linda C. Chang,
Associate Division Chief, Mobility Division.

[FR Doc. 04-20784 Filed 9-14-04; 8:45 am]

BILLING CODE 6712-01-P